DEPARTMENT OF TRANSPORTATION

Federal Transit Administration

Discretionary Funding Opportunities: Prior Year Section 5309 Bus and Bus Facilities Program (Ladders of Opportunity Initiative)

AGENCY: Federal Transit Administration (FTA), DOT.

ACTION: Notice of Funding Availability for FTA Bus and Bus Facilities Program, Ladders of Opportunity Initiative: Solicitation of Project Proposals.

SUMMARY: The Federal Transit Administration (FTA) announces the availability of prior year Section 5309 Bus and Bus Facilities Program discretionary funds for the Ladders of Opportunity Initiative in Fiscal Year (FY) 2014.

FTA will make available approximately $100 million from recoveries from the Section 5309 Bus and Bus Facilities Program authorized by the Safe, Accountable, Flexible, Efficient, Transportation Equity Act: A Legacy for Users (SAFETEA-LU), Public Law 109-59 and prior authorizations. Additional recoveries or other unallocated program funding may result in additional funding for proposals submitted under this notice.

This notice solicits proposals to compete for funding under the aforementioned program and initiatives, and includes the priorities established by FTA for these discretionary funds, the criteria FTA will use to identify meritorious projects for funding, and the description of how to apply for funding under these discretionary programs. This announcement is available on the FTA Web site at: http://www.fta.dot.gov. A synopsis of this funding opportunity will be posted in the FIND module of the government-wide electronic grants Web site at http://www.GRANTS.GOV. FTA will announce final selections on the FTA Web site and may also announce selections in the Federal Register.

DATES: Complete proposals are due by 11:59 p.m. EDT on August 4, 2014; all proposals must be submitted electronically through the GRANTS.GOV APPLY function. Any agency intending to apply should initiate the process of registering on the GRANTS.GOV site immediately to ensure completion of registration before the submission deadline. Instructions for applying can be found on FTA's Web site at http:/www.fta.dot.govbus and http:/fta.dot.govcleanfuels and in the “FIND” module of GRANTS.GOV.

FOR FURTHER INFORMATION CONTACT: Contact the appropriate FTA Regional Office found at http:/www.fta.dot.gov for proposal-specific information and issues. For program-specific questions about applying for the programs outlined in this notice, please contact Sam Snead, Federal Transit Administration, phone: (202) 366-1089, fax: (202) 366-3475, or email, Samuel.Snead@dot.gov . A TDD is available at 1-800-877-8339 (TDDFIRS).

SUPPLEMENTARY INFORMATION:

Table Of Contents

I. FTA Discretionary Program Overview

A. Authority

B. Policy Priorities

II. Discretionary Program Information

A. Program Description and Purpose

B. Eligibility Information

C. Evaluation Criteria, Review, and Selection

III. Proposal and Submission Information for All Programs and Initiatives

IV. Award Administration

V. Agency Contacts and Technical Assistance

I. FTA Discretionary Program Overview

A. Authority

Bus and Bus Facilities Program

Section 5309(b) of Title 49, United States Code, as amended by Section 3011 of SAFETEA-LU, authorized FTA's Bus and Bus Facilities program as follows: “The Secretary may make grants under this section to assist State and local governmental authorities in financing . . . capital projects to replace, rehabilitate, and purchase buses and related equipment and to construct bus-related facilities, including programs of bus and bus-related projects for assistance to subrecipients that are public agencies, private companies engaged in public transportation, or private non-profit organizations.”

While this program was not continued under the Moving Ahead for Progress in the 21st Century Act (MAP-21), funds are still available under this authority as a result of lapses in allocations or deobligations of funds originally made available prior to enactment of MAP-21.

B. Policy Priorities

Public transportation supports the development of communities, providing effective and reliable transportation options that increase access to jobs, recreation, health and social services, entertainment, educational opportunities, and other activities of daily life, while also improving mobility within and among these communities. Through various initiatives and legislative changes over the last fifteen years, FTA has allowed and encouraged projects that help integrate transit into a community through neighborhood improvements and enhancements to transportation facilities or services; make improvements to areas adjacent to public transit facilities that may facilitate mobility needs of transit users; or support other infrastructure investments that enhance the use of transit and other transportation options for the community.

This funding opportunity is a Ladders of Opportunity Initiative, which is designed to invest in projects that improve the mobility of Americans with transportation disadvantages and allow them a better chance of climbing Ladders of Opportunity towards economic self-determination. It focuses on serving groups for whom finding and maintaining stable, uplifting employment has long been an intransigent problem. The Ladders of Opportunity Initiative will invest in projects that fulfill the following principles:

1. Enhance Access to Work

Improve access for Americans with transportation disadvantages through reliable and timely access to employment centers, educational and training opportunities, services and other basic needs of workers.

2. Provide More Transportation Choices

Develop safe, reliable, and economical transportation choices to decrease household transportation costs, reduce our nation's dependence on foreign oil, improve air quality, reduce greenhouse gas emissions and promote public health.

3. Support Existing Communities

Target Federal funding toward existing communities to increase community revitalization, improve the efficiency of public works investments, and safeguard rural communities.

4. Support Economic Opportunities

Improve economic opportunities by linking capital investments with local workforce development.

5. Support Partnerships

The forming of strong federal and local partnerships to address the mobility challenge. This includes bringing local workforce development, training, education, veterans, transportation and planning stakeholders together with representation of key customer groups (people with low-incomes, people with disabilities, youths, veterans, elderly populations, etc.) to formulate a plan to address building Ladders of Opportunity in an area. Under MAP-21, Job Access projects were no longer required to be included in the locally coordinated public transit human services transportation plan (coordinated plan). However, to the extent that local areas address access to economic opportunity consistent with the Ladders of Opportunity policy priorities in the coordinated planning process, eligible projects derived from the coordinated planning effort could be considered for funding in this program.

II. Discretionary Program Initiative

A. Program Description and Purpose

This Ladders of Opportunity Initiative makes funds available to public transportation providers to finance capital projects to replace, rehabilitate, and purchase buses and related equipment and to construct bus-related facilities, including programs of bus and bus-related projects for assistance to subrecipients that are public agencies, private companies engaged in public transportation, or private non-profit organizations. Projects may include costs incidental to the acquisition of buses or to the construction of facilities, such as the costs of related workforce development and training activities, and project development.

B. Eligibility Information

1. Eligible Applicants

“Direct Recipients” within the meaning of FTA's Section 5307 Urbanized Area Formula program, States, or Indian Tribes are eligible to submit proposals for this initiative. Except for projects proposed by Indian Tribes, proposals for funding eligible projects in rural (nonurbanized) areas must be submitted as part of a consolidated State proposal. States and Direct Recipients may also submit consolidated proposals for projects in urbanized areas.

Proposals shall contain projects to be implemented by the Recipient or its subrecipients. Eligible subrecipients include public agencies, private non-profit organizations, and private providers engaged in public transportation.

2. Eligible Expenses

Projects eligible for funding are capital projects such as: purchase, replacement, or rehabilitation of buses and vans, bus related equipment (including ITS, fare equipment, communication devices); and replacement, construction, expansion or rehabilitation of bus-related facilities (including administrative, maintenance, transfer, and intermodal facilities), and costs incidental to these purposes. In order to be eligible for funding, intermodal facilities must have adjacent connectivity with bus service.

Funds made available under this initiative may not be used to fund operating expenses, preventive maintenance, or other expanded capital eligibility items such as security drills or the establishment of a debt service reserve. However, costs incidental to the acquisition of buses, or construction of a facility (such as workforce development activities designed to ensure that current or future employees are properly trained in the use of the equipment or facility or project development related to deployment of the equipment or facility) may be eligible. Funds also may not be used to reimburse projects that have incurred previous expenses absent evidence that FTA issued a Letter of No Prejudice (LONP) for the project before the costs were incurred. Funds may not be used for projects where funds are already obligated in a grant. There is no blanket pre-award authority for projects to be funded under this announcement, although such authority will be granted when selected projects are identified in a subsequent Federal Register Notice.

3. Cost Sharing

Pursuant to 49 U.S.C. 5309(h)(1) under SAFETEA-LU, costs will be shared at the following ratio: 80 percent Federal/20 percent local contribution. FTA will not approve deferred local share requests under this program. Pursuant to 49 U.S.C. 5323(i)(1), the Federal share may exceed 80 percent for certain projects related to the Americans with Disabilities Act (ADA) (42 U.S.C. 12101, et seq.); and the Clean Air Act (CAA) (42 U.S.C. 7401, et seq.), as follows: (1) For vehicles acquired for purposes of complying with the ADA or CAA the Federal Share is 85 percent; (2) Federal share is 90 percent for the net project cost of vehicle-related equipment or facilities attributable to compliance with the ADA or CAA. The award recipient must itemize the cost of specific, discrete, equipment or facility-related items being purchased to be in compliance with the ADA or the CAA in order to qualify for the Federal share of 90 percent of the cost for these itemized elements.

A Federal share of 90 percent may also be applied to projects to provide access for bicycles to public transportation facilities, to provide shelters and parking facilities for bicycles in or around public transportation facilities, or to install equipment for transporting bicycles on public transportation vehicles. 49 USC 5319.

C. Evaluation Criteria, Review and Selection

1. Project Evaluation Criteria

FTA will evaluate projects based on the proposals submitted according to the following criteria. Each proposer is encouraged to demonstrate the responsiveness of a project to all of the selection criteria with the most relevant information that the proposer can provide, regardless of whether such information has been specifically requested or identified in this notice. FTA will assess the extent to which a project addresses the following criteria.

i. Support of Ladders of Opportunity Policy Priorities

FTA will evaluate each project to determine how it supports the following five Ladders of Opportunity Priniciples:

• Enhance access to work. FTA will evaluate whether the project will improve access for Americans with transportation disadvantages through reliable and timely access to employment centers, educational opportunities, services and other basic needs of workers.

• Provides More Transportation Choices. FTA will evaluate whether the project will significantly enhance user mobility through the creation of more convenient transportation options for travelers;

• Support Existing Communities. FTA will evaluate whether the project will increase community revitalization, improve the efficiency of public works investments or safeguard rural communities.

• Support Economic Opportunities. FTA will evaluate whether the project improves economic opportunities by linking capital investments with local workforce development.

• Support partnerships. FTA will evaluate the extent the applicant will form strong federal and local partnerships to address the mobility challenge. This includes the extent the applicant has or will bring local workforce development, training, education, veterans, transportation and planning stakeholders together with representation of key customer groups (people with low-incomes, people with disabilities, youths, veterans, elderly populations, etc.) to formulate a plan to address building Ladders of Opportunity in an area.

ii. Demonstration of Need

FTA will evaluate each project to determine its needs for resources. In addition to the project-specific criteria below, this will include evaluating the project's impact on service delivery and whether the project represents a one-time or periodic need that cannot reasonably be funded from FTA program formula allocations or State and/or local resources.

a. For bus projects (replacement, rehabilitation or expansion):

• The age of the asset to be replaced or rehabilitated by the proposed project, relative to its useful life.

• The degree to which the proposed project addresses a demonstrated and verifiable backlog of deferred maintenance.

• Consistency with the proposer's bus fleet management plan.

• Condition and performance of the asset to be replaced by the proposed project, as ascertained through field inspections or otherwise, if available.

• For expansion requests, the degree to which the proposed project will have a significant impact on service delivery and evidence of need for additional capacity to address Ladder of Opportunity Policy priorities.

• The project conforms to FTA's spare ratio guidelines.

b. For bus facility and equipment projects (replacement and/or expansion):

• The age of the asset to be rehabilitated or replaced relative to its useful life.

• The degree to which the proposed project addresses a demonstrated and verifiable backlog of deferred maintenance.

• The degree to which the proposed project will enable the agency to improve the maintenance and condition of the agency's fleet and/or other related transit assets.

• For expansion requests, the degree to which the proposed project addresses a current capacity constraint that is limiting the ability of the agency to address the policy priorities of the Ladders of Opportunity program that are listed above.

c. Planning and Local/Regional Prioritization: The extent to which the proposed project is consistent with planning documents and local priorities. This will involve assessing whether:

• Project is consistent with the transit priorities identified in the long range plan and/or contingency/illustrative projects or local coordinated plan. Proposer should note if project could not be included in the financially constrained Transportation Improvement Program (TIP)/Statewide Transportation Improvement Program (STIP) due to lack of funding (if selected, project must be in TIP and STIP before grant award).

• Local support is demonstrated by availability of local match and letters of support for the project.

• In an area with more than one transit operator, the proposal demonstrates coordination with, and support of, other transit operators, or other related projects within the proposer's Metropolitan Planning Organization (MPO) or the geographic region within which the proposed project will operate.

d. Project Readiness: The extent to which the project is ready to implement. FTA will assess whether:

• The project qualifies for a Categorical Exclusion (CE) or the required environmental work has been initiated or completed for construction projects requiring an Environmental Assessment (EA) or Environmental Impact Statement (EIS) under, among others, the National Environmental Policy Act of 1969, as amended.

• Project implementation plans are complete, including initial design of facilities projects.

• The TIP and/or STIP can be amended (evidenced by MPO/State endorsement).

• Project funds can be obligated and the project implemented quickly, if selected (within 12 months from time of award).

• The applicant demonstrates the ability to carry out the proposed project successfully.

• If the project is multimodal in nature, the proposal demonstrates coordination with and support of other transportation modes and partners.

e. Technical, legal, and financial capacity to implement the particular project proposed: FTA will evaluate whether:

• The proposer has the technical capacity to administer the project.

• For fleet replacement, the acquisition is consistent with the bus fleet management plan.

• There are no outstanding legal, technical, or financial issues with the grantee that would make this a high-risk project to implement quickly.

• The proposer has adequate financial systems in place and has identified the source of local match if selected (no deferred local share will be allowed).

• The grantee is in fundable status for grant-making purposes.

2. Review and Selection Process

In addition to other FTA staff that may review the proposals, a technical evaluation committee will review proposals under the project evaluation criteria. Members of the technical evaluation committee and other involved FTA staff reserve the right to screen and rate the applications it receives and to seek clarification from any applicant about any statement in its application that FTA finds ambiguous and/or request additional documentation to be considered during the evaluation process to clarify information contained within the proposal.

After consideration of the findings of the technical evaluation committee, the FTA Administrator will determine the final selection and amount of funding for each project. Geographic diversity and the applicant's receipt of other discretionary awards may be considered in FTA's award decisions.

III. Proposal and Submission Information

A. Proposal Submission Process

Project proposals must be submitted electronically through http://www.GRANTS.GOV by the established due date. Mail and fax submissions will not be accepted. A complete proposal submission will consist of at least two files: (1) The SF 424 Mandatory form (downloaded from GRANTS.GOV) and (2) the supplemental form found on the FTA Web site at http://www.fta.gov. The supplemental form provides guidance and a consistent format for proposers to respond to the criteria outlined in this NOFA. Once completed, the supplemental form must be placed in the attachments section of the SF 424 Mandatory form. Proposers must use the correct supplemental form and attach it to their submission in GRANTS.GOV to successfully complete the application process. A proposal submission may contain additional supporting documentation as attachments.

Within 24-48 hours after submitting an electronic application, the applicant should receive three email messages from GRANTS.GOV: (1) Confirmation of successful transmission to GRANTS.GOV, (2) confirmation of successful validation by GRANTS.GOV and (3) confirmation of successful validation by FTA. If confirmations of successful validation are not received and a notice of failed validation or incomplete materials is received, the applicant must address the reason for the failed validation, as described in the notice, and resubmit before the submission deadline. If making a resubmission for any reason, include all original attachments regardless of which attachments were updated and check the box on the supplemental form indicating this is a resubmission.

Complete instructions on the application process can be found at http://www.fta.gov. Important: FTA urges proposers to submit their applications at least 72 hours prior to the due date to allow time to receive the validation message and to correct any problems that may have caused a rejection notification. Submissions after the stated submission deadlines will not be accepted. GRANTS.GOV scheduled maintenance and outage times are announced on the GRANTS.GOV Web site http://www.GRANTS.GOV. Deadlines will not be extended due to scheduled maintenance or outages.

B. Proposal Content

Proposers may submit one proposal for each project or one proposal containing multiple projects. Proposers submitting multiple projects in one proposal must be sure to clearly define each project by completing a supplemental form for each project. Supplemental forms must be added within the proposal by clicking the “add project” button in Section II of the supplemental form.

Information such as proposer name, federal amount requested, local match amount, description of areas served, etc. may be requested in varying degrees of detail on both the SF 424 form and supplemental form. All fields are required unless stated otherwise on the forms. Use both the “Check Package for Errors” and the “Validate Form” validation buttons on both forms to check all required fields on the forms. Ensure that the federal and local amounts specified are consistent.

1. Applicant Information

This provides basic sponsor identifying information:

i. Applicant name and FTA recipient ID number.

ii. Applicant eligibility information,

iii. A general description of services provided by the agency including ridership, fleet size, areas served, etc.

2. Project Information/Evaluation Criteria

At a minimum, every proposal must:

i. Submit an SF-424 with the correct supplemental form attached.

ii. Describe concisely, but completely, the project scope to be funded. FTA may elect to fund only part of some project proposals. If applicable, the scope should be declared as “scalable” with specific components of independent utility clearly identified.

iii. Address each of the evaluation criteria separately, demonstrating how the project responds to each criterion.

iv. Provide a line-item budget for the total project, with enough detail to indicate the various key components of the project. As FTA may elect to fund only part of some project proposals, the budget should provide for the minimum amount necessary to fund specific project components of independent utility.

v. Provide the Federal amount requested.

vi. Document the matching funds, including amount and source of the match, demonstrating strong local or private sector financial participation in the project.

vii. Provide support documentation, including financial statements, bond-ratings, and documents supporting the commitment of non-federal funding to the project, or a timeframe upon which those commitments would be made.

viii. Provide a project time-line, including significant milestones such as the date anticipated to issue a request for proposals for vehicles, or contract for purchase of vehicle(s), and actual or expected delivery date of vehicles, or notice of request for proposal and notice to proceed for capital construction/rehabilitation projects.

C. Submission Dates and Times

Complete proposals for the Ladders of Opportunity Initiative must be submitted electronically through the GRANTS.GOV Web site by 11:59 p.m. EDT on August 4, 2014. Proposers are encouraged to begin the process of registration on the GRANTS.GOV site well in advance of the submission deadline. Registration is a multi-step process, which may take several weeks to complete before an application can be submitted. Registered proposers may still be required to take steps to keep their registration up to date before submissions can be made successfully: (1) Registration in the Central Contractor Repository (CCR) is renewed annually and (2) persons making submissions on behalf of the Authorized Organization Representative (AOR) must be authorized in GRANTS.GOV by the AOR to make submissions.

D. Award Information

Federal transit funds are available to Federally recognized tribes and State or local governmental authorities as recipients and other public transportation providers as subrecipients. There is no monetary floor or upper limit for any single grant award; however, FTA intends to fund as many meritorious projects as possible. In addition, geographic diversity and the applicant's receipt of other discretionary awards may be considered in FTA's award decisions. Consistent with 49 U.S.C. Section 5309(m)(8), as amended by SAFETEA-LU, the Secretary shall consider the age and condition of buses, bus fleets, and bus-related facilities and equipment of proposers in its award of Bus and Bus Facility grants.

E. Funding Restrictions

Only proposals from eligible recipients for eligible activities will be considered for funding. Due to funding limitations, proposers that are selected for funding may receive less than the amount originally requested.

IV. Award Administration

A. Award Notices

At the time the project selections are announced, FTA will extend pre-award authority for the selected projects. There is no blanket pre-award authority for these projects before announcement.

B. Administrative and National Policy Requirements

1. Grant Requirements

If selected, applicants will apply for a grant through TEAM and adhere to the customary FTA grant requirements of the Section 5309 Bus and Bus Facilities program, including those of FTA Circular 9300.1B, Circular 5010.1D, and the labor protections of 49 U.S.C. Section 5333(b). All discretionary grants, regardless of award amount, will be subject to the Congressional Notification and release process. Technical assistance regarding these requirements is available from each FTA regional office.

2. Planning

FTA encourages proposers to notify the appropriate State Departments of Transportation and MPO in areas likely to be served by the project funds made available under these initiatives and programs. Selected projects must be incorporated into the long-range plans and transportation improvement programs of States and metropolitan areas before they are eligible for FTA funding.

3. Standard Assurances

The applicant assures that it will comply with all applicable Federal statutes, regulations, executive orders, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

4. Reporting

Post-award reporting requirements include submission of Federal Financial Reports and Milestone Reports in TEAM on a quarterly basis for all projects. Documentation is required for payment.

V. Agency Contacts and Technical Assistance

Contact the appropriate FTA Regional Office at http://www.fta.dot.gov for proposal-specific information and issues. For general program information, please use the contacts for each program identified in the front of this notice. Please contact the Grants.gov Helpdesk for assistance with electronic applications at http://www.grants.gov You may also contact support@grants.gov or call toll free (800) 518-4726.

For additional technical assistance, FTA will post answers to commonly asked questions at http://ww.fta.gov. FTA also expects to conduct webinars during the application period and will post this information on its Web site.

Issued in Washington, DC, this 29th day of May, 2014.
Dorval Carter, Jr.,
General Counsel.

[FR Doc. 2014-12925 Filed 6-3-14; 8:45 am]

BILLING CODE 4910-57-P